FEDERAL COMMUNICATIONS COMMISSION

47 CFR Part 73

[DA 03-2930, MB Docket No. 03-210, RM-10791]

Digital Television Broadcast Service; Elmira, NY

AGENCY: Federal Communications Commission.

ACTION: Proposed rule; correction.

SUMMARY: The Federal Communications Commission published in the Federal Register of October 7, 2003, (68 FR 57861), a document to change the DTV Table of Allotments to reflect the substitution of DTV channel 33 for DTV channel 2 at Elmira, New York. This document contained incorrect dates.

FOR FURTHER INFORMATION CONTACT: Pam Blumenthal, Media Bureau, (202) 418-1600.

Correction

In the Federal Register of October 7, 2003, on page 57861, correct the reply comment date to read: December 10, 2003.

Dated: November 20, 2003.
Federal Communications Commission.
Barbara A. Kreisman,
Chief, Video Division, Media Bureau.

[FR Doc. 03-29627 Filed 11-26-03; 8:45 am]

BILLING CODE 6712-01-P